DEPARTMENT OF STATE

[Public Notice 4503]

Bureau of Educational and Cultural Affairs Request for Grant Proposals: Congress-Bundestag Youth Exchange Program

SUMMARY: The Office of Citizen Exchanges, Youth Programs Division (ECA/PE/C/PY), of the Department of State's Bureau of Educational and Cultural Affairs announces an open competition for the Congress-Bundestag Youth Exchange Program (CBYX). Public and private non-profit organizations meeting the provisions described in Internal Revenue Code section 26 U.S.C. 501(c)(3) may submit proposals to facilitate educational exchanges between American and German high school students and young professionals.

Program Information

Overview: The CBYX program supports the exchange of American and German young people in order to sustain and strengthen German-American friendship based on common values of democracy and to convey lasting personal and institutional relationships to the successor generation. The primary objective of the program is to encourage American and German youth to learn about each other's society and culture through educational exchange. Additional goals for this competition include a renewed effort to promote the participants' roles as young ambassadors and the impact they can have on US-German relations, and to strengthen the linkages between US Representatives and their Bundestag counterparts. The program provides a full scholarship for an academic year experience of living and studying in the host country.

The Department of State, Bureau of Educational and Cultural Affairs administers the CBYX program in the U.S. The program is known in Germany as the Parlamentarisches Patenschafts-Programm (PPP), and is administered by the German Bundestag Administrative Office, PB4.

Inaugurated in 1983 through a bilateral agreement between the U.S. Congress and the German Bundestag, each government provides funding to exchange organizations through assistance awards for the costs of participant recruitment and selection, international airfare, orientation and debriefing, and hosting support for the respective exchange participants.

The U.S.-German agreement calls for an open grants competition every four years, and PB4 is holding a simultaneous open competition to select the German counterpart organizations that will manage the program in Germany. Up to five German high school exchange organizations will be partnered with five American high school exchange organizations, and one German vocational and one German young professionals exchange organization will be paired with American exchange organizations.

Organizations that are successful in this competition will be provided assistance awards in FY2005 to administer the recruitment and selection of participants for academic year 2005-06. Organizations for each component will be eligible for renewal awards in FY2006, 2007, 2008 for exchanges through academic year 2008-09. All assistance awards will be subject to availability of funds. (Please note: At the time of publication, funds have not been appropriated to support this program. As is the case with all Bureau assistance awards, final awards cannot be made until funds have been appropriated by Congress, allocated and committed through internal Bureau procedures.)

The actual number of participants exchanged each year is dependent on the amount of funding made available by the U.S. Congress and the German Bundestag. Though Congress has not yet determined the budget level for FY2005, the competition for program year 2005-06 will be based on up to 350 American and 350 German participants. Throughout the four-year grant cycle, representatives of both governments will hold annual discussions to determine the final participant numbers for each academic year.

Participants are chosen according to procedures and criteria established by each government. In the U.S. the CBYX program has four components.

1. High School Component: This component may provide up to 250 scholarships for a one-year educational and cultural homestay experience in Germany to American high school students ages 15-18. (The high school exchange is reciprocal for up to 250 American and 250 German students annually.) High school exchange organizations are invited to bid on conducting merit-based competitions among American high school students in one or more of five designated regions of the United States, as follows:

Northeast: Maine, New Hampshire, Vermont, Massachusetts, Rhode Island, Connecticut, New York, New Jersey, Ohio, Pennsylvania, Washington, DC, Delaware, Maryland.

Southeast: Arkansas, Louisiana, Mississippi, Alabama, Kentucky, Tennessee, Virginia, West Virginia, North Carolina, South Carolina, Georgia, Florida, Puerto Rico.

Central States: Indiana, Illinois, Michigan, Minnesota, Wisconsin, Iowa, Missouri, Nebraska.

Southwest: Kansas, Texas, Oklahoma, Colorado, New Mexico, Utah, Arizona, Southern California* (*the northern border of this region includes the counties of Monterey, San Benito, Fresno, and Inyo).

Pacific/Northwest: Alaska, Hawaii, Washington, Oregon, Idaho, Montana, Wyoming, Nevada, North Dakota, South Dakota, Northern California* (*the southern border of this region includes the counties of Santa Cruz, Santa Clara, Merced, Madera, and Mono).

American high school exchange organizations may bid on more than one region, indicating the most preferred area(s) in priority order for up to 50 American high school students per region. A maximum of five organizations may be selected to conduct all aspects of the competition in one of each of the five regions. In coordination with its German partner organization, high school organizations may host up to 100 German and American students each.

Organizations that are awarded a grant will conduct advertising, recruitment, processing of applications, screening, selection, pre-departure orientations and debriefings, and management of all administrative and logistical matters including domestic and international travel.

In the host country, American and German partner organizations will coordinate arrival and re-entry orientation for the respective exchange students, placement of the students in host families and schools (nationwide), arrange program enrichment activities, conduct the recruitment, screening, selection and orientation of host-families, provide program monitoring, supervision and counseling to students and host families, and manage all administrative and logistical matters including in-country travel and health and accident insurance. Organizations should secure all host family and school placements at least two weeks prior to the German students' arrival in the U.S. Organizations will be required to submit to the program office a list of these placements no later than 30 days after the students' arrival.

2. Vocational Component: This component provides scholarships to graduating American high-school seniors with a vocational specialization for a one-year professional study and training experience in their fields of interest in Germany. One organization will be selected to conduct all aspects of the nationwide selection competition in the U.S. for up to 25 American students and programming, including advertising, recruitment, processing of applications, screening, selection, pre-departure orientations and debriefings, and management of all administrative and logistical matters including domestic and international travel. (During the selection process the grantee is encouraged to work with vocational educational offices at the state level, as well as administrators of secondary schools with vocational education curriculum.)

The German partner organization chosen for a grant by the Bundestag Administrative Office (PB4) will coordinate arrival and re-entry orientation for the students and their placement in host families and schools, arrange a practicum in the participants' field of study, arrange program enrichment activities, and conduct the recruitment, screening, selection and orientation of host families, provide program monitoring, supervision and counseling to students and host families, and manage all administrative and logistical matters including in-country travel and health and accident insurance.

3. Young Professional Component: This component provides scholarships for a one-year professional study and training experience in the host country in business, technical, vocational, and agricultural fields to young American and German students ages 18-24. One organization will be selected to conduct all aspects of programming for up to 75 American and 100 German Young Professionals including the nationwide competition for the Americans and placement of the German students in American homes and schools as well as advertising, recruitment, processing of applications, screening, selection and pre-departure orientations and debriefings, and management of all administrative and logistical matters including domestic and international travel.

In the host country, the American and German partner organizations will coordinate arrival and re-entry orientation for the students, the placement of the students in host families (or other suitable living quarters) and schools (colleges/universities), arrange a practicum in the participants' field of study, arrange program enrichment activities, and conduct the recruitment, screening, selection and orientation of host families, provide program monitoring, supervision and counseling to students and host families, and manage all administrative and logistical matters including in-country travel and health and accident insurance.

In the U.S., each German young professional participant will be placed in a two- or four-year college for one semester of full-time study or a minimum of 12 credit hours (which may include an English class) throughout the academic year. Each applicant is encouraged to seek tuition waivers and cost sharing with cooperating colleges. The organization will coordinate with each participant to assure that his/her practicum is based on a prospectus of the specific skills and functions that will be mastered and that there is a structured learning component that enables the participant to gain a perspective on the overall operation of the business. The selected organization will also coordinate a six-week Congressional internship on Capitol Hill or in the state office for up to five German young professionals.

A stipend for some meals, incidentals and reasonable local transportation expenses may be included in the budget, but it is anticipated that the stipend would be substantially reduced or eliminated during the second half of the program when the participants receive allowances for living expenses from the firms or agencies hosting their practicum. The current stipend range is $250 to $300 per the regional cost of living. Where possible, hosting arrangements should be found that do not require subsidization.

4. Administrative Supplemental: One or more organizations will be awarded administrative funds to produce materials for program advertisement and recruitment for the high school component, maintain the CBYX Scholarship Web site, and to maintain an alumni database for all CBYX participants.

One of the organizations selected for the high school component will produce program specific informational materials for the high school component. Each organization selected for the high school component will distribute the materials to a wide audience within its appointed region, including public and private secondary schools, the media, and key networks such as the American Association of Teachers of German. (Innovative methods of publicizing the program are welcome, within funding limitations. Organizations are encouraged to utilize their volunteer networks and alumni to promote the program.) The “administrative” organization will coordinate data/input from the high school organizations for production of the promotional materials. The organization will set up and maintain a web-based listing of CBYX participants/alumni designed to centrally harness alumni and encourage activities beyond their participation in the program.

Each year all grantee organizations will submit to the Department of State program office, at least 30 days after departure/arrival data lists of all current American and German participants with U.S. addresses and corresponding Congressional representatives/districts, and update the information periodically throughout the year.

Please see the POGI (Project Objectives, Goals, and Implementation) for further details and guidance regarding each of the program components and the administrative supplemental.

Guidelines: Prior German language skills are not required for American participants. The German partner organizations will provide up to two months of intensive language training, which is covered by German Government funds, to American participants upon their arrival in Germany. German participants are expected to be sufficiently proficient in English and therefore will not require (but may elect) an English language course as part of their regular studies. (No Bureau funding will be provided for English training under this program.)

Organizations must provide comprehensive pre-departure preparation and orientations that will thoroughly prepare American students for their year abroad. The pre-departure orientation for American students and the debriefing for German students normally take place in Washington, DC and include CBYX students only. The Washington orientations are designed to introduce the participants to the Federal government and issues in the U.S.-German relationship, and may be subcontracted out by the grantee organizations.

If organizations opt to conduct the American students' pre-departure orientation in another state, the orientations must include materials and activities that will provide the students with a thorough knowledge of the program and role of the scholarship as it relates to U.S.-German relations. The program guidelines are highlighted in the POGI section of the solicitation package.

Applicants may include other program elements such as mid-year enrichment and follow-on activities in their proposals, but should bear in mind that funding is limited. Mid-year enrichment activities may include informal local or regional gatherings, volunteer community projects, and volunteer internships in local congressional offices.

For follow-on activities organizations are encouraged to involve former participants in the organization's alumni activities as well as CBYX-specific activities by volunteering in various capacities such as promoting the program in their communities and/or serving on the selection committees or as local or regional representatives. Organizations should also utilize their individual web sites and newsletters to track and/or keep in touch with alumni.

To be eligible for consideration in this competition an organization must:

1. Be legally incorporated in the U.S. as described in Internal Revenue Code section 26 U.S.C. 501(c)(3), and identify a legally incorporated affiliate in Germany and/or indicate its willingness to be partnered with a German organization approved by PB4 and the Bureau.

2. Have a not-for-profit status 501(c), as determined by the Internal Revenue Service; the German affiliate must also be not-for-profit (gemeinnuetzige).

3. Be financially solvent, have a demonstrated track record of responsible fiscal management and be able to meet the accounting and reporting requirements for Bureau grants.

4. Have a minimum of four years of experience in conducting long-term exchange programs (of at least nine months duration) between the United States and Germany.

5. Have well-established volunteer and host family networks to carry out various aspects of the program; regional representatives must be situated in such a way to handle expeditiously any problems that arise regarding host family accommodations, schooling and language problems, and difficulties concerning internships.

Programs must comply with J-1 visa regulations. Please refer to Solicitation Package for further information.

Budget Guidelines

Applicants must submit a comprehensive budget projection for academic year 2005-06. There must be a summary budget as well as breakdowns reflecting both administrative and program budgets. Applicants may provide separate sub-budgets for each program component, phase, location, or activity to provide clarification. Costs for U.S. and German students are to be listed separately.

Please refer to the Solicitation Package for complete budget guidelines and formatting instructions.

Announcement Title and Number: All correspondence with the Bureau concerning this RFGP should reference the above title and number ECA/PE/C/PY-04-14.

FOR FURTHER INFORMATION CONTACT: The Office of Citizen Exchanges, Youth Programs Division, ECA/PE/C/PY, Room 568, U.S. Department of State, SA-44, 301 4th Street, SW., Washington, DC 20547, (202) 619-6299, fax: 619-5311, sjones@pd.state.gov, to request a Solicitation Package. The Solicitation Package contains detailed award criteria, required application forms, specific budget instructions, and standard guidelines for proposal preparation. Please specify Bureau Program Officer Shalita Jones on all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's Web- site at http://exchanges.state.gov/education/RFGPs. Please read all information before downloading.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Deadline for Proposals: All proposal copies must be received at the Bureau of Educational and Cultural Affairs by 5 p.m. Washington, DC time on Friday, November 7, 2003. Faxed documents will not be accepted at any time. Documents postmarked the due date but received on a later date will not be accepted. Each applicant must ensure that the proposals are received by the above deadline.

Applicants must follow all instructions in the Solicitation Package. The original and 7 copies of the application should be sent to: U.S. Department of State, SA-44, Bureau of Educational and Cultural Affairs, Ref.: ECA/PE/C/PY-04-14, Program Management, ECA/EX/PM, Room 534, 301 4th Street, SW., Washington, DC 20547.

Please also submit the Executive Summary, Proposal Narrative, and Budget sections of the proposal as e-mail attachments in Microsoft Word and Excel to the program officer at sjones@pd.state.gov. The Bureau will transmit these files electronically to the American Public Affairs staff in the partner country identified for this program, with the goal of reducing the time it takes to get post comments for the Bureau's grant review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving grants under this RFGP will be third parties “cooperating with or assisting the sponsor in the conduct of the sponsor's program.” The actions of grantee program organizations shall be “imputed to the sponsor in evaluating the sponsor's compliance with” 22 CFR 62. Therefore, the Bureau expects that any organization receiving a grant under this competition will render all assistance necessary to enable the Bureau to fully comply with 22 CFR 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR 62. If the applicant has experience as a designated Exchange Visitor Program Sponsor, the applicant should discuss their record of compliance with 22 CFR 62 et. seq., including the oversight of their Responsible Officers and Alternate Responsible Officers, screening and selection of program participants, provision of pre-arrival information and orientation to participants, monitoring of participants, proper maintenance and security of forms, record-keeping-reporting and other requirements.

The Office of Citizen Exchanges of ECA Will Be Responsible for Issuing DS-2019 Forms to Participants in This Program

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to their conformance with the objectives and guidelines stated above and the review criteria stated in the POGI.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: September 26, 2003.
C. Miller Crouch,
Principal Deputy Assistant Secretary, Bureau of Educational and Cultural Affairs, Department of State.

[FR Doc. 03-25167 Filed 10-2-03; 8:45 am]

BILLING CODE 4710-05-P